DEPARTMENT OF COMMERCE

International Trade Administration

A-570-910

Postponement of Preliminary Determination of Antidumping Duty Investigation: Circular Welded Carbon Quality Steel Pipe from the People's Republic of China

AGENCY: Import Administration, International Trade Administration, Department of Commerce.

EFFECTIVE DATE: November 6, 2007.

FOR FURTHER INFORMATION CONTACT: Thomas Martin, AD/CVD Operations, Office 4, Import Administration, International Trade Administration, U.S. Department of Commerce, 14th Street and Constitution Avenue, NW, Washington, DC 20230; telephone (202) 482-3936.

SUPPLEMENTARY INFORMATION:

Postponement of Preliminary Determination

On June 27, 2007, the Department of Commerce (“Department”) initiated the antidumping duty investigation of circular welded carbon quality steel pipe from the People's Republic of China. See Initiation of Antidumping Duty Investigation: Circular Welded Carbon Quality Steel Pipe from the People's Republic of China, 72 FR 36663 (July 5, 2007) (“Initiation Notice”). The notice of initiation stated that the Department would make its preliminary determination for this antidumping duty investigation no later than 140 days after issuance. See Initiation Notice, 72 FR at 36667.

On October 2, 2007, Allied Tube & Conduit, Sharon Tube Company, IPSCO Tubulars, Inc., Western Tube & Conduit Corporation, Northwest Pipe Company, Wheatland Tube Co., i.e., the Ad Hoc Coalition For Fair Pipe Imports From China, and the United Steelworkers (collectively “Petitioners”) made a timely request pursuant to 19 CFR 351.205(e) and section 733(c)(1)(A) of the Tariff Act of 1930, as amended (“the Act”), for a postponement of the preliminary determination. Petitioners requested postponement of the preliminary determination because it needs additional time to evaluate the questionnaire responses filed by respondents, and, if warranted, prepare an allegation of targeted dumping. See 19 CFR 351.301(d)(5).

For the reasons identified by the Petitioners, and because there are no compelling reasons to deny the request, the Department is postponing the preliminary determination under section 733(c)(1)(A) of the Act, by fifty days from November 14, 2007, to January 3, 2008. The deadline for the final determination will continue to be 75 days after the date of the preliminary determination, unless extended.

This notice is issued and published pursuant to sections 733(c)(2) of the Act and 19 CFR 351.205(f)(1).

Dated: October 31, 2007.
Stephen J. Claeys,
Acting Assistant Secretary for Import Administration.

[FR Doc. E7-21800 Filed 11-5-07; 8:45 am]

BILLING CODE 3510-DS-S